ENVIRONMENTAL PROTECTION AGENCY

40 CFR Part 52

[Docket No. EPA-R02-OAR-2006-0342; FRL-8191-2]

Approval and Promulgation of Implementation Plans; Carbon Monoxide Maintenance Plan, Conformity Budgets, Emissions Inventories; State of New Jersey

AGENCY: Environmental Protection Agency (EPA).

ACTION: Final rule.

SUMMARY: The Environmental Protection Agency (EPA) is approving a State Implementation Plan (SIP) revision submitted by the State of New Jersey. This revision establishes an updated ten-year carbon monoxide (CO) maintenance plan for the Nine Not-Classified Areas in the State (the City of Atlantic City, the City of Burlington, the Borough of Freehold, the Town of Morristown, the Borough of Penns Grove, the City of Perth Amboy, the Borough of Somerville, the Toms River Area, and the City of Trenton) and Camden County. In addition, this action approves revisions to the CO, NOX, VOC, and PM2.5 motor vehicle emissions budgets for Northern New Jersey. Finally, this notice approves revisions to the general conformity budget for McGuire Air Force Base and the 2002 ozone, PM2.5, and CO base year emissions inventories, where applicable.

The Nine Not Classified Areas and Camden County were redesignated to attainment of the CO National Ambient Air Quality Standard (NAAQS) on February 5, 1996 and maintenance plans were also approved at that time. By this action, EPA is approving the New Jersey Department of Environmental Protection's (New Jersey) second maintenance plans for these areas because they provide for continued attainment of the CO NAAQS for an additional ten years. The intended effect of this rulemaking is to approve a SIP revision that will insure continued maintenance of the CO NAAQS.

EFFECTIVE DATE: This rule will be effective July 10, 2006.

ADDRESSES: EPA has established a docket for this action under Docket ID Number EPA-R02-OAR-2006-0342. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Environmental Protection Agency, Region 2 Office, Air Programs Branch, 290 Broadway, 25th Floor, New York, New York 10007-1866. Copies of the State submittal are available at the New Jersey Department of Environmental Protection, Office of Energy, Bureau of Air Quality Planning, 401 East State Street, CN027, Trenton, New Jersey 08625.

FOR FURTHER INFORMATION CONTACT: Henry Feingersh feingersh.henry@epa.gov for general questions, Raymond Forde forde.raymond@epa.gov for emissions inventory questions, or Matthew Laurita laurita.matthew@epa.gov for mobile source related questions at the U.S. Environmental Protection Agency, Air Programs Branch, 290 Broadway, 25th Floor, New York, NY 10007-1866, telephone number (212) 637-4249, fax number (212) 637-3901.

SUPPLEMENTARY INFORMATION:

I. What Was Included in New Jersey's Submittal?

On February 21, 2006, New Jersey submitted a SIP revision to EPA which included a CO limited maintenance plan, revisions to the CO, NOX, and VOC motor vehicle emissions budgets for northern New Jersey, PM2.5 motor vehicle emissions budgets for northern New Jersey, revisions to the general conformity budget for McGuire Air Force Base, and the 2002 ozone, PM2.5, and CO base year emissions inventories, where applicable. When they made the submittal, New Jersey had requested that EPA parallel process their SIP revision. New Jersey held a public hearing on March 31, 2006 on their proposed SIP revision and accepted written comments until April 7, 2006. New Jersey addressed all of the comments and made a subsequent adopted submittal on May 18, 2006.

II. What Were the Changes From the February 21, 2006 Submittal?

The May 18, 2006 submittal had minor changes from the original submittal as a result of comments received by New Jersey during the state rulemaking process. The May 18, 2006 submittal contained additional information and clarifications which acted to strengthen the original submittal which EPA proposed to approve on May 9, 2006. EPA evaluated the changes and has decided that they are non-substantive changes. That is, the changes do not effect our earlier proposal to approve the SIP revision.

III. What Comments Did EPA Receive in Response to the May 9, 2006 EPA Proposal?

EPA proposed approval on the New Jersey SIP revision on May 9, 2006 (71 FR 26895). The comment period closed on June 8, 2006. EPA did not receive any comments.

IV. What Is the Adequacy Status of the CO Limited Maintenance Plan for Camden County and the Nine Not Classified Areas?

Section 118(e) of the transportation conformity rule (40 CFR 93) states that a conformity determination cannot be made using submitted motor vehicle emission budgets (“budgets”) until EPA makes a positive determination that the submitted budgets are adequate. In accordance with our rule, the limited maintenance plan for Camden County and the Nine Not Classified Areas was posted for adequacy review on April 18, 2006 on EPA's conformity Web site: http://www.epa.gov/otaq/stateresources/transconf/adequacy.htm.

As a general rule, however, limited maintenance plans, such as the maintenance plan for Camden County and the Nine Not Classified Areas, do not include budgets. Instead, for those areas that qualify under our limited maintenance plan policy for CO, we have concluded that the area will continue to maintain the CO NAAQS regardless of the quantity of emissions from the on-road transportation sector, and thus there is no need to cap emissions from the on-road transportation sector for the maintenance period.

Therefore, EPA's adequacy review of the limited maintenance plan for Camden County and the Nine Not Classified Areas primarily focuses on whether the area qualifies for the applicable limited maintenance plan policy for CO. From our review, EPA has concluded that Camden County and the Nine Not Classified Areas meet the criteria for a limited maintenance plan, and therefore, finds the maintenance plan for Camden County and the Nine Not Classified Areas adequate for conformity purposes under our limited maintenance plan policy.

V. What Is EPA's Conclusion?

EPA had proposed approval of New Jersey's request in 71 FR 26895. The reader is referred back to that proposal notice for additional detail on this action. Since EPA did not receive any comments and the New Jersey responses to the comments they had received clarify and strengthen the SIP revision, EPA is approving the New Jersey SIP request in this action. Tables 1 and 2 present summaries of the motor vehicle emissions budgets being approved in this notice. Table 3 presents the approved general conformity budgets for McGuire Air Force Base.

Table 1.—Approved NOX, VOC, and CO Motor Vehicle Emissions Budgets for the North Jersey Transportation Planning Authority
[Tons/day]
Year | NOX ¹ | VOC ¹ | CO ²
2005 | 327.83 | 146.33 |
2007 | 256.58 | 122.53 | 1150
2014 |  |  | 899
¹ Covers Bergen, Essex, Hudson, Hunterdon, Middlesex, Monmouth, Morris, Ocean, Passaic, Somerset, Sussex, and Union Counties.
² Covers Bergen, Essex, Hudson, Passaic, and Union Counties.

Table 2.—Approved 2009 PM2.5 Motor Vehicle Emissions Budgets
[Tons/year]
Metropolitan Planning Organization | Direct PM2.5 | NOX
North Jersey Transportation Planning Authority ¹ | 1,207 | 61,676
Delaware Valley Regional Planning Commission ² | 89 | 4,328
¹ Covers Bergen, Essex, Hudson, Middlesex, Monmouth, Morris, Passaic, Somerset, and Union Counties.
² Covers Mercer County only.

Table 3.—Approved 2005 ¹ McGuire Air Force Base General Conformity Emissions Budgets
[Tons/year]
VOC | NOX
730 | 1,534
¹ 2005 budgets updated such that the increase in NOX is offset by a decrease in VOC, resulting in no expected net increase in ozone formation.

EPA is also determining that the CO maintenance plan for Camden County and the Nine Not Classified Areas is adequate for transportation conformity purposes under the limited maintenance plan policy for CO. This adequacy finding is effective July 10, 2006. EPA previously announced the adequacy of the PM2.5 motor vehicle emissions budgets in the Federal Register (71 FR 33305).

Lastly, EPA is approving the 2002 ozone, PM2.5, and CO base year emissions inventories, where applicable.

EPA has determined that today's rule falls under the “good cause” exemption in section 553(d)(3) of the Administrative Procedures Act (APA) which, upon finding “good cause,” allows an agency to make a rule effective immediately (thereby avoiding the 30-day delayed effective date otherwise provided for in the APA). Making today's rule effective upon publication benefits the public by allowing the most recently approved conformity budgets developed by the State to be used in determining conformity.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Act. This rule also is not subject to Executive Order 13045 “Protection of Children from Environmental Health Risks and Safety Risks” (62 FR 19885, April 23, 1997), because it is not economically significant.

In reviewing SIP submissions, EPA's role is to approve state choices, provided that they meet the criteria of the Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Act, petitions for judicial review of this action must be filed in the United States Court of Appeals for the appropriate circuit by September 8, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Ozone, Particulate matter, Reporting and recordkeeping requirements, Volatile organic compounds, Nitrogen oxides, Sulfur dioxide.

Dated: June 27, 2006.
Alan J. Steinberg,
Regional Administrator, Region 2.

Part 52, chapter I, title 40 of the Code of Federal Regulations is amended as follows:

PART 52—[AMENDED]

1. The authority citation for part 52 continues to read as follows:

Authority: 42 U.S.C. 7401 et seq.

Subpart FF—New Jersey

2. Section 52.1581 is amended by revising paragraph (d) and adding paragraph (e) to read as follows:

§ 52.1581 Control strategy: Carbon monoxide.

* * * * *

(d) The 1997 and 2007 carbon monoxide motor vehicle emission budgets for Camden County and the Nine Not Classified Areas included in New Jersey's May 21, 2004 SIP revision are approved.

(e)(1) Approval—The May 18, 2006 revision to the carbon monoxide maintenance plan for Camden County and the Nine Not Classified Areas. This revision contains a second ten-year maintenance plan that demonstrates continued attainment of the National Ambient Air Quality Standard for carbon monoxide through the year 2017.

(2) The 2007 and 2014 carbon monoxide conformity emission budgets for five counties in the New York/Northern New Jersey/Long Island carbon monoxide maintenance area included in New Jersey's May 18, 2006 SIP revision are approved.

3. Section 52.1582 is amended by revising paragraph (i)(2), removing and reserving paragraph (i)(3) and adding new paragraph (k) to read as follows:

§ 52.1582 Control Strategy and regulations: Ozone.

* * * * *

(i) * * *

(2) The 2005 conformity emission budgets for the New Jersey portion of the Philadelphia/Wilmington/Trenton nonattainment area included in New Jersey's April 8, 2003 State Implementation Plan revision are approved.

* * * * *

(k)(1) The Statewide 2002 base year ozone precursor emission inventories included in New Jersey's May 18, 2006 State Implementation Plan revision are approved.

(2) The revisions to the 2005 and 2007 motor vehicle emissions budgets for the New Jersey portion of the New York/Northern New Jersey/Long Island nonattainment area included in New Jersey's May 18, 2006 State Implementation Plan revision are approved.

(3) The conformity emission budgets for the McGuire Air Force Base included in New Jersey's May 18, 2006 State Implementation Plan revision are approved.

[FR Doc. E6-10743 Filed 7-7-06; 8:45 am]

BILLING CODE 6560-50-P